DEPARTMENT OF HEALTH AND HUMAN SERVICES

Food and Drug Administration

[Docket No. 03N-0161]

Medical Devices; Reprocessed Single-Use Devices; Termination of Exemptions From Premarket Notification; Requirement for Submission of Validation Data

AGENCY: Food and Drug Administration, HHS.

ACTION: Notice.

SUMMARY: The Food and Drug Administration (FDA) is adding nonelectric biopsy forceps (classified in 21 CFR 876.1075, Gastroenterology-urology biopsy instrument) to the list of critical reprocessed single-use devices (SUDs) whose exemption from premarket notification requirements is being terminated and for which validation data, as specified under the Medical Device User Fee and Modernization Act of 2002 (MDUFMA), is necessary in a premarket notification (510(k)). FDA is requiring submission of these data to ensure that reprocessed single-use nonelectric biopsy forceps are substantially equivalent to predicate devices, in accordance with MDUFMA.

DATES: These actions are effective June 26, 2003. Manufacturers of reprocessed single-use biopsy forceps must submit 510(k)s for these devices by September 27, 2004, or their devices may no longer be marketed.

ADDRESSES: Submit written comments to the Division of Dockets Management (HFA-305), Food and Drug Administration, 5630 Fishers Lane, rm. 1061, Rockville, MD 20852. Submit electronic comments to http://www.fda.gov/dockets/ecomments. Comments should be identified with the docket number found in brackets in the heading of this document.

FOR FURTHER INFORMATION CONTACT: Barbara A. Zimmerman, Center for Devices and Radiological Health (HFZ-410), Food and Drug Administration, 9200 Corporate Blvd., Rockville, MD 20850.

SUPPLEMENTARY INFORMATION:

I. Background

On October 26, 2002, MDUFMA (Public Law 107-250) amended the Federal Food, Drug, and Cosmetic Act (the act) by adding section 510(o) (21 U.S.C. 360(o)), which provided new regulatory requirements for reprocessed SUDs. According to this new provision, in order to ensure that reprocessed SUDs are substantially equivalent to predicate devices, 510(k)s for certain reprocessed SUDs identified by FDA must include validation data. These required validation data include cleaning and sterilization data, and functional performance data demonstrating that each SUD will remain substantially equivalent to its predicate device after the maximum number of times the device is reprocessed as intended by the person submitting the premarket notification.

Before enactment of the new law, a manufacturer of a reprocessed SUD was required to obtain premarket approval or premarket clearance for the device, unless the device was exempt from premarket submission requirements. Under MDUFMA, some previously exempt reprocessed SUDs will no longer be exempt from premarket notification requirements. Manufacturers of these identified devices will need to submit 510(k)s that include validation data to be specified by FDA. Reprocessors of certain SUDs that currently have cleared 510(k)s also will need to submit the validation data specified by the agency.

A. Definitions

Under section 302(d) of MDUFMA, a reprocessed SUD is defined as an

“* * * original device that has previously been used on a patient and has been subjected to additional processing and manufacturing for the purpose of an additional single use on a patient. The subsequent processing and manufacture of a reprocessed single-use device shall result in a device that is reprocessed within the meaning of this definition.”

B. Reprocessed SUDs Exempt From Premarket Notification

Reprocessed SUDs are divided into three groups: (1) Critical, (2) semicritical, and (3) noncritical. The first two categories reflect definitions set forth in MDUFMA, and all three reflect a classification scheme recognized by the industry.¹ These categories of devices are defined as follows:

¹ These are known in the industry as the Spaulding definitions, and are described in Spaulding, E. H., “The Role of Chemical Disinfection in the Prevention of Nonsocomial Infections,” P. S. Brachman and T. C. Eickof (ed), Proceedings of International Conference on Nonsocomial Infections, 1970, American Hospital Association, Chicago, IL 1971:254-274.

1. A critical reprocessed SUD is intended to contact normally sterile tissue or body spaces during use.

2. A semicritical reprocessed SUD is intended to contact intact mucous membranes and not penetrate normally sterile areas of the body.

3. A noncritical reprocessed SUD is intended to make topical contact and not penetrate intact skin.

C. Requirements for Critical Reprocessed SUDs

MDUFMA requires FDA to review the critical reprocessed SUDs that are currently exempt from premarket notification requirements and determine which of these devices require premarket notification to ensure their substantial equivalence to predicate devices. By April 26, 2003, FDA was required to identify in a Federal Register notice those critical reprocessed SUDs whose exemption from premarket notification requirements will be terminated and for which FDA has determined that validation data, as specified under MDUFMA, is necessary in a 510(k). According to the new law, manufacturers of the devices whose exemption from premarket notification requirements is terminated must submit 510(k)s that include validation data regarding cleaning, sterilization, and functional performance, in addition to all the other required elements of a 510(k) identified in 21 CFR 807.87, within 15 months of publication of the list or no longer market their devices.

II. FDA's Implementation of New Section 510(o) of the Act

In the Federal Register of April 30, 2003 (68 FR 23139), FDA described the methodology and criteria it used to determine which previously exempt critical reprocessed SUDs are now subject to 510(k) submission requirements, including the submission of validation data. First, FDA described how it identified the types of SUDs being reprocessed and how the Spaulding definitions (see footnote 1) were used to categorize these devices as critical, semicritical, or noncritical. (This list, which was Attachment 1 to that Federal Register notice, is being reprinted as Attachment 1 to this notice.) Next, the agency described its use of the Risk Prioritization Scheme (RPS)² that it used to evaluate the risk (high, moderate, or low) associated with an SUD based on: (1) Risk of infection and (2) risk of inadequate performance following reprocessing. FDA identified its final risk criterion as those reprocessed SUDs intended to come in contact with tissue at high risk of being infected with the causative agents of Creutzfeldt-Jakob Disease (CJD). (These are generally devices intended for use in neurosurgery and ophthalmology.)

² This scheme is described in the agency's February 2000 draft guidance document entitled “Reprocessing and Reuse of Single-Use Devices: Review Prioritization Scheme.” The document is available on the Internet at http://www.fda.gov/cdrh/reuse/1156.pdf.

Using this methodology and criteria, the devices included in List I (“Critical Reprocessed Single-Use Devices Previously Exempt From Premarket Notification Requirements That Will Now Require 510(k)s With Validation Data”) of the April 30, 2003, Federal Register notice are those critical reprocessed SUDs that were either high risk according to the RPS or intended to come in contact with tissue at high risk of being infected with the causative agents of CJD.

III. Revisions to Attachment I, List I, and List II

A. Revisions to Attachment I (List of SUDs Known To Be Reprocessed or Considered for Reprocessing)

FDA has re-evaluated the list of reprocessed SUDs with regard to the critical and semicritical device designations. In doing so, the agency has determined that all gastroenterology-urology biopsy instruments should be considered critical devices rather than semicritical devices because these devices are intended to break the mucous membrane and come in contact with sterile tissue when taking a biopsy. This includes biopsy forceps covers, biopsy instruments, biopsy needle sets, biopsy punches, mechanical biopsy instruments, and nonelectric biopsy forceps (devices 42-47 in Attachment I). In addition, it was determined that rigid and nonrigid bronchoscope biopsy forceps and biliary sphincterotomes (devices 40, 41, and 55 in Attachment I) should also be considered critical devices rather than semicritical devices for the same reason as stated previously. These changes are reflected in a revised version of Attachment I included in this Federal Register notice.

B. Revisions to List I (Critical Reprocessed Single-Use Devices Previously Exempt From Premarket Notification Requirements That Will Now Require 510(k)s With Validation Data)

FDA recategorized nine device types from semicritical to critical. One of these nine device types, nonelectric gastroenterology-urology biopsy forceps, was also considered high risk under the RPS. Therefore, nonelectric gastroenterology-urology biopsy forceps have been added to List I. Under MDUFMA, manufacturers of these biopsy forceps will be required to submit 510(k)s with validation data by (see DATES), which is 15 months following the publication of this revised list.

In addition, FDA is taking this opportunity to clarify the date by which manufacturers of the other devices in List I are required to submit 510(k)s with validation data. The correct date is July 30, 2004, which is 15 months following the initial publication of the list (the April 30, 2003, Federal Register notice inadvertently identified two dates).

C. Revisions to List II (Reprocessed Single-Use Devices Subject to Premarket Notification Requirements That Will Now Require the Submission of Validation Data)

The only change to List II is to clarify the date by which 510(k) submissions are required by MDUFMA to be supplemented with validation data. The correct date is January 30, 2004, which is 9 months following the initial publication of the list (as noted previously, the April 30, 2003, Federal Register notice inadvertently identified two dates).

List I.—Critical Reprocessed Single-Use Devices Previously Exempt From Premarket Notification Requirements That Will Now Require 510(k)s With Validation Data (to be submitted by July 30, 2004, unless otherwise noted).
21 CFR section | Classification name | Product code for non-reprocessed device | Product code for reprocessed device | Product code name for reprocessed device
872.3240 | Dental bur | Diamond coated | NME | Dental diamond coated bur
872.4535 | Dental diamond instrument | DZP | NLD | Dental diamond instrument
872.4730 | Dental injection needle | DZM | NMW | Dental needle
874.4140 | Ear, nose, and throat (ENT) bur | Microdebrider | NLY | ENT high speed microdebrider
874.4140 | Ear, nose, and throat bur | Diamond coated | NLZ | ENT diamond coated bur
874.4420 | Ear, nose, throat manual surgical instrument | KAB, KBG, KCI | NLB | Laryngeal, sinus, tracheal trocar
876.1075¹ | Gastroenterology-urology biopsy instrument | FCL | NON | Nonelectric biopsy forceps
878.4200 | Introduction/drainage catheter and accessories | GCB | NMT | Catheter needle
878.4800 | Manual surgical instrument | MJG | NNA | Percutaneous biopsy device
878.4800 | Manual surgical instrument | FHR | NMU | Gastro-urology needle
878.4800 | Manual surgical instrument for general use | DWO | NLK | Cardiovascular biopsy needle
878.4800 | Manual surgical instrument for general use | GAA | NNC | Aspiration and injection needle
882.4190 | Forming/cutting clip instrument | HBS | NMN | Forming/cutting clip instrument
884.1730 | Laparoscopic insufflator | HIF | NMI | Laparoscopic insufflator and accessories
884.4530 | OB/GYN specialized manual instrument | HFB | NMG | Gynecological biopsy forceps
886.4350 | Manual ophthalmic surgical instrument | HNN | NLA | Ophthalmic knife
¹ 510(k)s with validation data to be submitted by September 27, 2004.

List II.—Reprocessed Single-Use Devices Subject to Premarket Notification Requirements That Will Now Require the Submission of Validation Data¹ (Manufacturers who already have 510(k) clearance for these devices must submit validation data by January 30, 2004. Any new 510(k) submitted after publication of the April 30 list will require validation data.)
21 CFR section | Classification name | Product code for non-reprocessed device | Product code for reprocessed device | Product code name for reprocessed device
Unclassified | Oocyte aspiration needles | MHK | NMO | Oocyte aspiration needles
Unclassified | Percutaneous transluminal angioplasty catheter | LIT | NMM | Transluminal peripheral angioplasty catheter
Unclassified | Ultrasonic surgical instrument | LFL | NLQ | Ultrasonic scalpel
868.5150 | Anesthesia conduction needle | BSP | NNH | Anesthetic conduction needle (with or without introducer)
868.5150 | Anesthesia conduction needle | MIA | NMR | Short term spinal needle
868.5730 | Tracheal tube | BTR | NMA | Tracheal tube (with or without connector)
868.5905 | Noncontinuous ventilator (IPPB) | BZD | NMC | Noncontinuous ventilator (respirator) mask
870.1200 | Diagnostic intravascular catheter | DQO | NLI | Angiography catheter
870.1220 | Electrode recording catheter | DRF | NLH | Electrode recording catheter
870.1220 | Electrode recording catheter | MTD | NLG | Intracardiac mapping catheter
870.1230 | Fiberoptic oximeter catheter | DQE | NMB | Fiberoptic oximeter catheter
870.1280 | Steerable catheter | DRA | NKS | Steerable catheter
870.1290 | Steerable catheter control system | DXX | NKR | Steerable catheter control system
870.1330 | Catheter guide wire | DQX | NKQ | Catheter guide wire
870.1390 | Trocar | DRC | NMK | Cardiovascular trocar
870.1650 | Angiographic injector and syringe | DXT | NKT | Angiographic injector and syringe
870.1670 | Syringe actuator for injector | DQF | NKW | Injector for actuator syringe
870.2700 | Oximeter | MUD | NMD | Tissue saturation oximeter
870.2700 | Oximeter | DQA | NLF | Oximeter
870.3535 | Intra-aortic balloon and control system | DSP | NKO | Intra-aortic balloon and control system
870.4450 | Vascular clamp | DXC | NMF | Vascular clamp
870.4885 | External vein stripper | DWQ | NLJ | External vein stripper
872.5470 | Orthodontic plastic bracket | DYW | NLC | Orthodontic plastic bracket
874.4680 | Bronchoscope (flexible or rigid) and accessories | BWH | NLE | Bronchoscope (nonrigid) biopsy forceps
876.1075 | Gastro-urology biopsy instrument | FCG | NMX | G-U biopsy needle and needle set
876.1075 | Gastroenterology-urology biopsy instrument | KNW | NLS | Biopsy instrument
876.1500 | Endoscope and accessories | FBK, FHP | NMY | Endoscopic needle
876.1500 | Endoscope and accessories | MPA | NKZ | Endoilluminator
876.1500 | Endoscope and accessories | GCJ | NLM | General and plastic surgery laparoscope
876.1500 | Endoscope and accessories | FHO | NLX | Spring-loaded Pneumoperitoneum Needle
876.4300 | Endoscopic electrosurgical unit and accessories | FAS | NLW | Active urological electrosurgical electrode
876.4300 | Endoscopic electrosurgical unit and accessories | FEH | NLV | Flexible suction coagulator electrode
876.4300 | Endoscopic electrosurgical unit and accessories | KGE | NLU | Electric biopsy forceps
876.4300 | Endoscopic electrosurgical unit and accessories | FDI | NLT | Flexible snare
876.4300 | Endoscopic electrosurgical unit and accessories | KNS | NLR | Endoscopic (with or without accessories) Electrosurgical unit
876.5010 | Biliary catheter and accessories | FGE | NML | Biliary catheter
876.5540 | Blood access device and accessories | LBW | NNF | Single needle dialysis set (co-axial flow)
876.5540 | Blood access device and accessories | FIE | NNE | Fistula needle
876.5820 | Hemodialysis systems and accessories | FIF | NNG | Single needle dialysis set with uni-directional pump
878.4300 | Implantable clip | FZP | NMJ | Implantable clip
878.4750 | Implantable staple | GDW | NLL | Implantable staple
880.5570 | Hypodermic single lumen needle | FMI | NKK | Hypodermic single lumen needle
880.5860 | Piston syringe | FMF | NKN | Piston syringe
882.4300 | Manual cranial drills, burrs, trephines, and accessories | HBG | NLO | (Manual) drills, burrs, trephines, and accessories
882.4305 | Powered compound cranial drills, burrs, trephines, and accessories | HBF | NLP | (Powered, compound) drills, burrs, trephines, and accessories
882.4310 | Powered simple cranial drills, burrs, trephines, and accessories | HBE | NLN | (Simple, powered) drills, burrs, trephines, and accessories
884.1720 | Gynecologic laparoscope and accessories | HET | NMH | Gynecologic laparoscope (and accessories)
884.6100 | Assisted reproduction needles | MQE | NNB | Assisted reproduction needles
886.4370 | Keratome | HMY, HNO | NKY | Keratome blade
886.4670 | Phacofragmentation system | HQC | NKX | Phacoemulsification needle
892.5730 | Radionuclide brachytherapy source | IWF | NMP | Isotope needle
¹ Hemodialyzers have been excluded from this list because the reuse of hemodialyzers is addressed in FDA's “Guidance for Hemodialyzer Reuse Labeling” (final draft issued on October 6, 1995).

IV. Comments

You may submit written or electronic comments on this notice to the Division of Dockets Management (see ADDRESSES). You may submit a single copy of an electronic comment to http://www.fda.gov/dockets/ecomments. You should submit two paper copies of any mailed comments but individuals may submit one paper copy. You should identify your comment with the docket number found in brackets in the heading of this document. You may see any comments FDA receives in the Division of Dockets Management between 9 a.m. and 4 p.m., Monday through Friday.

Attachment 1—List of SUDs Known To Be Reprocessed or Considered for Reprocessing June 26, 2003
| Medical specialty | Device type | 21 CFR section | Class | Product code | Risk* | Critical/semi-critical/noncritical | Premarket exempt
1 | Cardio | Cardiopulmonary Bypass Marker | unclassified |  | MAB | 1 | C | N¹
2 | Cardio | Percutaneous & Operative Transluminal Coronary Angioplasty Catheter (PTCA) | post-amendment | III | LOX | 3 | C | N
3 | Cardio | Percutaneous Ablation Electrode | post-amendment | III | LPB | 3 | C | N
4 | Cardio | Peripheral Transluminal Angioplasty (PTA) Catheter | unclassified |  | LIT | 3 | C | N
5 | Cardio | Blood-Pressure Cuff | 870.1120 | II | DXQ | 1 | N | N
6 | Cardio | Angiography Catheter | 870.1200 | II | DQO | 3 | C | N
7 | Cardio | Electrode Recording Catheter | 870.1220 | II | DRF | 3 | C | N
8 | Cardio | High-Density Array Catheter | 870.1220 | II | MTD | 3 | C | N
9 | Cardio | Fiberoptic Oximeter Catheter | 870.1230 | II | DQE | 3 | C | N
10 | Cardio | Steerable Catheter | 870.1280 | II | DRA | 3 | C | N
11 | Cardio | Steerable Catheter Control System | 870.1290 | II | DXX | 3 | C | N
12 | Cardio | Guide Wire | 870.1330 | II | DQX | 3 | C | N
13 | Cardio | Angiographic Needle | 870.1390 | II | DRC | 3 | C | N
14 | Cardio | Trocar | 870.1390 | II | DRC | 3 | C | N
15 | Cardio | Syringes | 870.1650 | II | DXT | 3 | C | N
16 | Cardio | Injector Type Syringe Actuator | 870.1670 | II | DQF | 3 | C | N
17 | Cardio | Oximeter | 870.2700 | II | DQA | 3 | N | N
18 | Cardio | Tissue Saturation Oximeter | 870.2700 | II | MUD | 3 | C | N
19 | Cardio | Intra-Aortic Balloon System | 870.3535 | III | DSP | 3 | C | N
20 | Cardio | Vascular Clamp | 870.4450 | II | DXC | 3 | C | N
21 | Cardio | Device, Stabilizer, Heart | 870.4500 | I | MWS | 2 | C | Y²
22 | Cardio | External Vein Stripper | 870.4885 | II | DWQ | 3 | C | N
23 | Cardio | Compressible Limb Sleeve | 870.5800 | II | JOW | 1 | N | N
24 | Dental | Bur | 872.3240 | I | EJL | 1 | C | Y
25 | Dental | Diamond Coated Bur | 872.3240 | I | EJL | 3 | C | Y
26 | Dental | Diamond Instrument | 872.4535 | I | DZP | 3 | C | Y
27 | Dental | AC-Powered Bone Saw | 872.4120 | II | DZH | 2 | C | N
28 | Dental | Manual Bone Drill and Wire Driver | 872.4120 | II | DZJ | 2 | C | N
29 | Dental | Powered Bone Drill | 872.4120 | II | DZI | 2 | C | N
30 | Dental | Intraoral Drill | 872.4130 | I | DZA | 1 | C | Y
31 | Dental | Injection needle | 872.4730 | I | DZM | 3 | C | Y
32 | Dental | Metal Orthodontic Bracket | 872.5410 | I | EJF | 3 | S | Y
33 | Dental | Plastic Orthodontic Bracket | 872.5470 | II | DYW | 3 | S | N
34 | ENT | Bur | 874.4140 | I | EQJ | 1 | C | Y
35 | ENT | Diamond Coated Bur | 874.4140 | I | EQJ | 3 | C | Y
36 | ENT | Microdebrider | 874.4140 | I | EQJ | 3 | C | Y
37 | ENT | Microsurgical Argon Fiber Optic Laser Cable, for Uses Other Than Otology, Including Laryngology and General Use in Otolaryngology | 874.4490 | II | LMS | 1 | S | N
38 | ENT | Microsurgical Argon Fiber Optic Laser Cable for Use in Otology | 874.4490 | II | LXR | 1 | S | N
39 | ENT | Microsurgical Carbon-Dioxide Fiber Optic Laser Cable | 874.4500 | II | EWG | 1 | S | N
40 † | ENT | Bronchoscope Biopsy Forceps (Nonrigid) | 874.4680 | II | BWH | 3 | C | N
41 † | ENT | Bronchoscope Biopsy Forceps (Rigid) | 874.4680 | II | JEK | 1 | C | N
42 † | Gastro/Urology | Biopsy Forceps Cover | 876.1075 | I | FFF | 1 | C | Y
43 † | Gastro/Urology | Biopsy Instrument | 876.1075 | II | KNW | 3 | C | N
44 † | Gastro/Urology | Biopsy Needle Set | 876.1075 | II | FCG | 3 | C | N
45 † | Gastro/Urology | Biopsy Punch | 876.1075 | II | FCI | 2 | C | N
46 † | Gastro/Urology | Mechanical Biopsy Instrument | 876.1075 | II | FCF | 2 | C | N
47 † | Gastro/Urology | Nonelectric Biopsy Forceps | 876.1075 | I | FCL | 3 | C | Y
48 | Gastro/Urology | Cytology Brush for Endoscope | 876.1500 | II | FDX | 2 | S | N
49 | Gastro/Urology | Endoscope accessories | 876.1500 | II | KOG | 2 | S | N
50 | Gastro/Urology | Extraction Balloons/Baskets | 876.1500 | II | KOG | 2 | S | N
51 | Gastro/Urology | Endoscopic needle | 876.1500 | II | FBK | 3 | C | N
52 | Gastro/Urology | Simple Pneumoperitoneum Needle | 876.1500 | II | FHP | 3 | C | N
53 | Gastro/Urology | Spring Loaded Pneumoperitoneum Needle | 876.1500 | II | FHO | 3 | C | N
54 | Gastro/Urology | Active Electrosurgical Electrode | 876.4300 | II | FAS | 3 | S | N
55 † | Gastro/Urology | Biliary Sphincterotomes | 876.5010, 876.1500 | II | FGE | 3 | C | N
56 | Gastro/Urology | Electric Biopsy Forceps | 876.4300 | II | KGE | 3 | C | N
57 | Gastro/Urology | Electrosurgical Endoscopic Unit (With or Without Accessories) | 876.4300 | II | KNS | 3 | S | N
58 | Gastro/Urology | Flexible Snare | 876.4300 | II | FDI | 3 | S | N
59 | Gastro/Urology | Flexible Suction Coagulator Electrode | 876.4300 | II | FEH | 3 | S | N
60 | Gastro/Urology | Flexible Stone Dislodger | 876.4680 | II | FGO | 3 | S | Y
61 | Gastro/Urology | Metal Stone Dislodger | 876.4680 | II | FFL | 3 | S | Y
62 | Gastro/Urology | Needle Holder | 876.4730 | I | FHQ | 1 | C | Y
63 | Gastro/Urology | Nonelectrical Snare | 876.4730 | I | FGX | 1 | S | Y
64 | Gastro/Urology | Urological Catheter | 876.5130 | II | KOD | 2 | S | N
65 | Gastro/Urology | Single Needle Dialysis Set | 876.5540 | II | LBW, FIE | 3 | C | N
66 | Gastro/Urology | Hemodialysis Blood Circuit Accessories | 876.5820 | II | KOC | 2 | S | N
67 | Gastro/Urology | Single Needle Dialysis Set | 876.5820 | II | FIF | 3 | C | N
68 | GE/U | Hemorrhoidal Ligator | 876.4400 | II | FHN | 2 | C | N
69 | General Hospital | Implanted, Programmable Infusion Pump | post-amendment | III | LKK | 3 | C | N
70 | General Hospital | Needle Destruction Device | post-amendment | III | MTV | 1 | N | N
71 | General Hospital | Nonpowered Flotation Therapy Mattress | 880.5150 | I | IKY | 2 | N | Y
72 | General Hospital | Non-AC-Powered Patient Lift | 880.5510 | I | FSA | 2 | N | Y
73 | General Hospital | Alternating Pressure Air Flotation Mattress | 880.5550 | II | FNM | 1 | N | Y
74 | General Hospital | Temperature Regulated Water Mattress | 880.5560 | I | FOH | 2 | N | Y
75 | General Hospital | Hypodermic Single Lumen Needle | 880.5570 | II | FMI | 3 | C | N
76 | General Hospital | Piston Syringe | 880.5860 | II | FMF | 3 | C | N
77 | General Hospital | Mattress Cover (Medical Purposes) | 880.6190 | I | FMW | 2 | N | Y
78 | General Hospital | Disposable Medical Scissors | 880.6820 | I | JOK | 1 | N | Y
79 | General Hospital | Irrigating Syringe | 880.6960 | I | KYZ, KYY | 1 | C | Y
80 | Infection Control | Surgical Gowns | 878.4040 | II | FYA | 1 | C | N
81 | Lab | Blood Lancet | 878.4800 | I | FMK | 1 | C | Y
82 | Neuro | Clip Forming/Cutting Instrument, | 882.4190 | I | HBS | 3* | C | Y
83 | Neuro | Drills, Burrs, Trephines, and Accessories (Manual) | 882.4300 | II | HBG | 3* | C | N
84 | Neuro | Drills, Burrs, Trephines, and Accessories (Compound, Powered) | 882.4305 | II | HBF | 3* | C | N
85 | Neuro | Drills, Burrs, Trephines, and Accessories (Simple, Powered) | 882.4310 | II | HBE | 3* | C | N
86 | OB/GYN | Oocyte Aspiration Needle | Unclassified | II | MHK | 3 | C | N
87 | OB/GYN | Laparoscope Accessories | 884.1720 | I | HET | 2 | C | Y
88 | OB/GYN | Laparoscope Accessories | 884.1720 | II | HET | 3 | C | N
89 | OB/GYN | Laparoscopic Dissectors | 884.1720 | I | HET | 2 | C | Y
90 | OB/GYN | Laparoscopic Graspers | 884.1720 | I | HET | 2 | C | Y
91 | OB/GYN | Laparoscopic Scissors | 884.1720 | I | HET | 2 | C | Y
92 | OB/GYN | Insufflator Accessories (Tubing, Verres Needle, Kits) | 884.1730 | II | HIF | 3 | C | Y
93 | OB/GYN | Laparoscopic Insufflator | 884.1730 | II | HIF | 2 | N | N
94 | OB/GYN | Endoscopic Electrocautery and Accessories | 884.4100 | II | HIM | 2 | N | N
95 | OB/GYN | Gynecologic Electrocautery (and Accessories) | 884.4120 | II | HGI | 2 | N | N
96 | OB/GYN | Endoscopic Bipolar Coagulator-Cutter (and Accessories) | 884.4150 | II | HIN | 2 | N | N
97 | OB/GYN | Culdoscopic Coagulator (and Accessories) | 884.4160 | II | HFI | 2 | N | N
98 | OB/GYN | Endoscopic Unipolar Coagulator-Cutter (and Accessories) | 884.4160 | II | KNF | 2 | N | N
99 | OB/GYN | Hysteroscopic Coagulator (and Accessories) | 884.4160 | II | HFH | 2 | N | N
100 | OB/GYN | Unipolar Laparoscopic Coagulator (and Accessories) | 884.4160 | II | HFG | 2 | N | N
101 | OB/GYN | Episiotomy Scissors | 884.4520 | I | HDK | 1 | C | Y
102 | OB/GYN | Umbilical Scissors | 884.4520 | I | HDJ | 1 | C | Y
103 | OB/GYN | Biopsy Forceps | 884.4530 | I | HFB | 3 | C | Y
104 | OB/GYN | Assisted Reproduction Needles | 884.6100 | II | MQE | 3 | C | N
105 | Ophthalmic | Endoilluminator | 876.1500 | II | MPA | 3* | C | N
106 | Ophthalmic | Surgical Drapes | 878.4370 | II | KKX | 2 | C | N
107 | Ophthalmic | Ophthalmic Knife | 886.4350 | I | HNN | 3 | C | Y
108 | Ophthalmic | Keratome Blade | 886.4370 | I not exempt | HMY, HNO | 3 | C | N
109 | Ophthalmic | Phacoemulsification Needle | 886.4670 | II | HQC | 3 | C | N
110 | Ophthalmic | Phacoemulsification/ Phacofragmentation Fluidic | 886.4670 | II | MUS | 2 | C | N
111 | Ophthalmic | Phacofragmentation Unit | 886.4670 | II | HQC | 1 | N | N
112 | Ortho | Saw Blades | 878.4820 | I | GFA, DWH, GEY, GET | 1 | C | Y
113 | Ortho | Surgical Drills | 878.4820 | I | GEY, GET | 1 | C | Y
114 | Ortho | Arthroscope accessories | 888.1100 | II | HRX | 2 | C | Y
115 | Ortho | Bone Tap | 888.4540 | I | HWX | 1 | C | Y
116 | Ortho | Burr | 888.4540 | I | HTT | 1 | C | Y
117 | Ortho | Carpal Tunnel Blade | 888.4540 | I | LXH | 2 | C | Y
118 | Ortho | Countersink | 888.4540 | I | HWW | 1 | C | Y
119 | Ortho | Drill Bit | 888.4540 | I | HTW | 1 | C | Y
120 | Ortho | Knife | 888.4540 | I | HTS | 1 | C | Y
121 | Ortho | Manual Surgical Instrument | 888.4540 | I | LXH | 1 | C | Y
122 | Ortho | Needle Holder | 888.4540 | I | HXK | 1 | C | Y
123 | Ortho | Reamer | 888.4540 | I | HTO | 1 | C | Y
124 | Ortho | Rongeur | 888.4540 | I | HTX | 1 | C | Y
125 | Ortho | Scissors | 888.4540 | I | HRR | 1 | C | Y
126 | Ortho | Staple Driver | 888.4540 | I | HXJ | 1 | C | Y
127 | Ortho | Trephine | 888.4540 | I | HWK | 1 | C | Y
128 | Ortho | Flexible Reamers/Drills | 886.4070 878.4820 | I | GEY, HRG | 1 | C | Y
129 | Ortho | External Fixation Frame | 888.3040 888.3030 | II | JEC, KTW, KTT | 2 | N | N
130 | Physical Medicine | Non-Heating Lamp for Adjunctive Use Inpatient Therapy | unclassified |  | NHN | 1 | N | N
131 | Physical Medicine | Electrode Cable | 890.1175 | II | IKD | 1 | N | Y
132 | Physical Medicine | External Limb Component, Hip Joint | 890.3420 | I | ISL | 2 | N | Y
133 | Physical Medicine | External Limb Component, Knee Joint | 890.3420 | I | ISY | 2 | N | Y
134 | Physical Medicine | External Limb Component, Mechanical Wrist | 890.3420 | I | ISZ | 2 | N | Y
135 | Physical Medicine | External Limb Component, Shoulder Joint | 890.3420 | I | IQQ | 2 | N | Y
136 | Plastic Surgery | Stapler | 878.4800 | I | GAG, GEF, FHM, HBT | 2 | C | Y
137 | Radiology | Isotope Needle | 892.5730 | II | IWF | 3 | C | N
138 | Resp | Endotracheal Tube Changer | unclassified | III | LNZ | 3 | C | N
139 | Resp | Anesthesia conduction needle | 868.5150 | II | BSP | 3 | C | N
140 | Resp | Short term spinal needle | 868.5150 | II | MIA | 3 | C | N
141 | Resp | Respiratory Therapy and Anesthesia Breathing Circuits | 868.5240 | I | CAI | 2 | S | Y
142 | Resp | Oral and Nasal Catheters | 868.5350 | I | BZB | 1 | C | Y
143 | Resp | Gas Masks | 868.5550 | I | BSJ | 1 | S | Y
144 | Resp | Breathing Mouthpiece | 868.5620 | I | BYP | 1 | N | Y
145 | Resp | Tracheal Tube | 868.5730 | II | BTR | 3 | C | N
146 | Resp | Airway Connector | 868.5810 | I | BZA | 2 | S | Y
147 | Resp | CPAP Mask | 868.5905 | II | BZD | 3 | S | N
148 | Resp | Emergency Manual Resuscitator | 868.5915 | II | BTM | 2 | S | N
149 | Resp | Tracheobronchial Suction Catheter | 868.6810 | I | BSY | 3 | S | Y
150 | Surgery | AC-Powered Orthopedic Instrument and Accessories | unclassified |  | HWE | 2 | C | N
151 | Surgery | Breast Implant Mammary Sizer | unclassified |  | MRD | 1 | C | N
152 | Surgery | Ultrasonic Surgical Instrument | unclassified |  | LFL | 3 | C | N
153 | Surgery | Trocar | 874.4420 | I | KAB, KBG, KCI | 3 | C | Y
154 | Surgery | Endoscopic Blades | 876.1500 | II | GCP, GCR | 2 | C | N
155 | Surgery | Endoscopic Guidewires | 876.1500 | II | GCP, GCR | 1 | C | N
156 | Surgery | Inflatable External Extremity Splint | 878.3900 | I | FZF | 1 | N | Y
157 | Surgery | Noninflatable External Extremity Splint | 878.3910 | I | FYH | 1 | N | Y
158 | Surgery | Catheter Needle | 878.4200 | I | GCB | 3 | C | Y
159 | Surgery | Implantable Clip | 878.4300 | II | FZP | 3 | C | N
160 | Surgery | Electrosurgical and Coagulation Unit With Accessories | 878.4400 | II | BWA | 2 | C | N
161 | Surgery | Electrosurgical Apparatus | 878.4400 | II | HAM | 2 | C | N
162 | Surgery | Electrosurgical Cutting and Coagulation Device and Accessories | 878.4400 | II | GEI | 2 | C | N
163 | Surgery | Electrosurgical Device | 878.4400 | II | DWG | 2 | C | N
164 | Surgery | Electrosurgical Electrode | 878.4400 | II | JOS | 2 | C | N
165 | Surgery | Implantable Staple, Clamp, Clip for Suturing Apparatus | 878.4750 | II | GDW | 3 | C | N
166 | Surgery | Percutaneous Biopsy Device | 878.4800 | I | MJG | 3 | C | Y
167 | Surgery | Gastro-Urology Needle | 878.4800 | I | FHR | 3 | C | Y
168 | Surgery | Aspiration and Injection Needle | 878.4800 | I | GAA | 3 | C | Y
169 | Surgery | Biopsy Brush | 878.4800 | I | GEE | 1 | C | Y
170 | Surgery | Blood Lancet | 878.4800 | I | FMK | 1 | C | Y
171 | Surgery | Bone Hook | 878.4800 | I | KIK | 1 | C | Y
172 | Surgery | Cardiovascular Biopsy Needle | 878.4800 | I | DWO | 3 | C | Y
173 | Surgery | Clamp | 878.4800 | I | GDJ | 1 | C | Y
174 | Surgery | Clamp | 878.4800 | I | HXD | 1 | C | Y
175 | Surgery | Curette | 878.4800 | I | HTF | 1 | C | Y
176 | Surgery | Disposable Surgical Instrument | 878.4800 | I | KDC | 1 | C | Y
177 | Surgery | Disposable Vein Stripper | 878.4800 | I | GAJ | 1 | C | Y
178 | Surgery | Dissector | 878.4800 | I | GDI | 1 | C | Y
179 | Surgery | Forceps | 878.4800 | I | GEN | 2 | C | Y
180 | Surgery | Forceps | 878.4800 | I | HTD | 2 | C | Y
181 | Surgery | Gouge | 878.4800 | I | GDH | 1 | C | Y
182 | Surgery | Hemostatic Clip Applier | 878.4800 | I | HBT | 2 | C | Y
183 | Surgery | Hook | 878.4800 | I | GDG | 1 | C | Y
184 | Surgery | Manual Instrument | 878.4800 | I | MDM, MDW | 1 | C | Y
185 | Surgery | Manual Retractor | 878.4800 | I | GZW | 1 | C | Y
186 | Surgery | Manual Saw and Accessories | 878.4800 | I | GDR, HAC | 1 | C | Y
187 | Surgery | Manual Saw and Accessories | 878.4800 | I | HAC | 1 | C | Y
188 | Surgery | Manual Surgical Chisel | 878.4800 | I | FZO | 1 | C | Y
189 | Surgery | Mastoid Chisel | 878.4800 | I | JYD | 1 | C | Y
190 | Surgery | Orthopedic Cutting Instrument | 878.4800 | I | HTZ | 1 | C | Y
191 | Surgery | Orthopedic Spatula | 878.4800 | I | HXR | 1 | C | Y
192 | Surgery | Osteotome | 878.4800 | I | HWM | 1 | C | Y
193 | Surgery | Rasp | 878.4800 | I | GAC | 1 | C | Y
194 | Surgery | Rasp | 878.4800 | I | HTR | 1 | C | Y
195 | Surgery | Retractor | 878.4800 | I | GAD | 1 | C | Y
196 | Surgery | Retractor | 878.4800 | I | HXM | 1 | C | Y
197 | Surgery | Saw | 878.4800 | I | HSO | 1 | C | Y
198 | Surgery | Scalpel Blade | 878.4800 | I | GES | 1 | C | Y
199 | Surgery | Scalpel Handle | 878.4800 | I | GDZ | 1 | C | Y
200 | Surgery | Scissors | 878.4800 | I | LRW | 1 | C | Y
201 | Surgery | Snare | 878.4800 | I | GAE | 1 | C | Y
202 | Surgery | Spatula | 878.4800 | I | GAF | 1 | C | Y
203 | Surgery | Staple Applier | 878.4800 | I | GEF | 2 | C | Y
204 | Surgery | Stapler | 878.4800 | I | GAG | 2 | C | Y
205 | Surgery | Stomach and Intestinal Suturing Apparatus | 878.4800 | I | FHM | 2 | C | Y
206 | Surgery | Surgical Curette | 878.4800 | I | FZS | 1 | C | Y
207 | Surgery | Surgical Cutter | 878.4800 | I | FZT | 1 | C | Y
208 | Surgery | Surgical Knife | 878.4800 | I | EMF | 1 | S | Y
209 | Surgery | Laser Powered Instrument | 878.4810 | II | GEX | 2 | C | N
210 | Surgery | Ac-Powered Motor | 878.4820 | I | GEY | 2 | C | Y
211 | Surgery | Bit | 878.4820 | I | GFG | 1 | C | Y
212 | Surgery | Bur | 878.4820 | I | GFF, GEY | 1 | C | Y
213 | Surgery | Cardiovascular Surgical Saw Blade | 878.4820 | I | DWH | 1 | C | Y
214 | Surgery | Chisel (Osteotome) | 878.4820 | I | KDG | 1 | C | Y
215 | Surgery | Dermatome | 878.4820 | I | GFD | 1 | C | Y
216 | Surgery | Electrically Powered Saw | 878.4820 | I | DWI | 2 | C | Y
217 | Surgery | Pneumatic Powered Motor | 878.4820 | I | GET | 2 | C | Y
218 | Surgery | Pneumatically Powered Saw | 878.4820 | I | KFK | 2 | C | Y
219 | Surgery | Powered Saw and Accessories | 878.4820 | I | HAB | 2 | C | Y
220 | Surgery | Saw Blade | 878.4820 | I | GFA | 1 | C | Y
221 | Surgery | Nonpneumatic Tourniquet | 878.5900 | I | GAX | 1 | N | Y
222 | Surgery | Pneumatic Tourniquet | 878.5910 | I | KCY | 1 | N | Y
223 | Surgery | Endoscopic Staplers | 888.4540 | I | HXJ | 2 | C | Y
224 | Surgery | Trocar | 876.1500 870.1390 | II | GCJ, DRC | 3 | C | N
225 | Surgery | Surgical Cutting Accessories | 878.4800 874.4420 | I | GDZ, GDX, GES, KBQ, KAS | 2 | C | Y
226 | Surgery | Electrosurgical Electrodes/Handles/Pencils | 876.4300 878.4400 | II | HAM, GEI, FAS | 2 | C | N
227 | Surgery | Scissor Tips | 878.4800 884.4520 874.4420 | I | LRW, HDK, HDJ, JZB, KBD | 2 | C | Y
228 | Surgery | Laser Fiber Delivery Systems | 878.4810 874.4500 886.4390 884.4550 886.4690 | II | GEX, EWG, LLW, HQF, HHR, HQB | 1 | C | N
¹ N means no.
² Y means yes.
† Indicates a change since last publication.

Dated: June 20, 2003.
Jeffrey Shuren,
Assistant Commissioner for Policy.

[FR Doc. 03-16109 Filed 6-25-03; 8:45 am]

BILLING CODE 4160-01-S